ENVIRONMENTAL PROTECTION AGENCY

40 CFR Part 180

[EPA-HQ-OPP-2007-1057; FRL-8339-2]

Extension of Tolerances for Emergency Exemptions (Multiple Chemicals)

AGENCY: Environmental Protection Agency (EPA).

ACTION: Final rule.

SUMMARY: This regulation extends time-limited tolerances for the pesticides listed in Unit II. of the SUPPLEMENTARY INFORMATION. These actions are in response to EPA's granting of emergency exemptions under section 18 of the Federal Insecticide, Fungicide, and Rodenticide Act (FIFRA) authorizing use of these pesticides. Section 408(l)(6) of the Federal Food, Drug, and Cosmetic Act (FFDCA) requires EPA to establish a time-limited tolerance or exemption from the requirement for a tolerance for pesticide chemical residues in food that will result from the use of a pesticide under an emergency exemption granted by EPA.

DATES: This regulation is effective December 19, 2007. Objections and requests for hearings must be received on or before February 19, 2008, and must be filed in accordance with the instructions provided in 40 CFR part 178 (see also Unit I.C. of the SUPPLEMENTARY INFORMATION).

ADDRESSES: EPA has established a docket for this action under docket identification (ID) number EPA-HQ-OPP-2007-1057. To access the electronic docket, go to http://www.regulations.go, select “Advanced Search,” then “Docket Search.” Insert the docket ID number where indicated and select the “Submit” button. Follow the instructions on the regulations.gov website to view the docket index or access available documents. All documents in the docket are listed in the docket index available in regulations.gov. Although listed in the index, some information is not publicly available, e.g., Confidential Business Information (CBI) or other information whose disclosure is restricted by statute. Certain other material, such as copyrighted material, is not placed on the Internet and will be publicly available only in hard copy form. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: See the table in this unit for the name of a specific contact person. The following information applies to all contact persons: Emergency Response Team, Registration Division (7505P), Office of Pesticide Programs, Environmental Protection Agency, 1200 Pennsylvania Ave., NW., Washington, DC 20460-0001

Pesticide/CFR Citation | Contact Person
Bifenazate, 180.572 Thiabendazole, 180.242 Thiophanate-methyl, 180.371 | Andrea Conrath conrath.andrea@epa.gov (703) 308-9356
Chlorothalonil, 180.275 Myclobutanil, 180.443 Thiophanate-methyl, 180.371 | Stacey Groce groce.stacey@epa.gov (703) 305-2505
Hexythiazox, 180.448 Sulfentrazone, 180.498 Zeta-cypermethrin, 180.418 | Andrew Ertman ertman.andrew@epa.gov (703) 308-9367
Mesotrione, 180.571 Tebuconazole, 180.474 | Libby Pemberton pemberton.libby@epa.gov (703) 308-9364

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions discussed above. If you have any questions regarding the applicability of this action to a particular entity, consult the person listed under FOR FURTHER INFORMATION CONTACT.

B. How Can I Access Electronic Copies of this Document?

In addition to accessing an electronic copy of this Federal Register document through the electronic docket at http://www.regulations.gov, you may access this Federal Register document electronically through the EPA Internet under the “Federal Register” listings at http://www.epa.gov/fedrgstr. You may also access a frequently updated electronic version of 40 CFR part 180 through the Government Printing Office's pilot e-CFR site at http://www.gpoaccess.gov/ecfr.

C. Can I File an Objection or Hearing Request?

Under section 408(g) of FFDCA, as amended by FQPA, any person may file an objection to any aspect of this regulation and may also request a hearing on those objections. The EPA procedural regulations which govern the submission of objections and requests for hearings appear in 40 CFR part 178. You must file your objection or request a hearing on this regulation in accordance with the instructions provided in 40 CFR part 178. To ensure proper receipt by EPA, you must identify docket ID number EPA-HQ-OPP-2007-1057 in the subject line on the first page of your submission. All requests must be in writing, and must be mailed or delivered to the Hearing Clerk on or before February 19, 2008.

In addition to filing an objection or hearing request with the Hearing Clerk as described in 40 CFR part 178, please submit a copy of the filing that does not contain any CBI for inclusion in the public docket that is described in ADDRESSES. Information not marked confidential pursuant to 40 CFR part 2 may be disclosed publicly by EPA without prior notice. Submit your copies, identified by docket ID number EPA-HQ-OPP-2007-1057, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

II. Background and Statutory Findings

EPA published final rules in the Federal Register for each pesticide listed. The initial issuance of these final rules announced that EPA, on its own initiative, under section 408 of FFDCA, 21 U.S.C. 346a, as amended by the Food Quality Protection Act of 1996 (FQPA) (Public Law 104-170), was establishing time-limited tolerances.

EPA established the tolerances because section 408(l)(6) of FFDCA requires EPA to establish a time-limited tolerance or exemption from the requirement for a tolerance for pesticide chemical residues in food that will result from the use of a pesticide under an emergency exemption granted by EPA under FIFRA section 18. Such tolerances can be established without providing notice or time for public comment.

EPA received requests to extend the use of these pesticide chemicals for this year's growing season. After having reviewed these submissions, EPA concurs that emergency conditions exist. EPA assessed the potential risks presented by residues for each chemical. In doing so, EPA considered the safety standard in section 408(b)(2) of FFDCA, and decided that the necessary tolerances under section 408(l)(6) of FFDCA would be consistent with the safety standard and with FIFRA section 18.

The data and other relevant material have been evaluated and discussed in the final rules originally published to support these uses. Based on that data and information considered, the Agency reaffirms that extension of these time-limited tolerances will continue to meet the requirements of section 408(l)(6) of FFDCA. Therefore, the time-limited tolerances are extended until the dates listed. EPA will publish a document in the Federal Register to remove the revoked tolerances from the Code of Federal Regulations (CFR). Although these tolerances will expire and are revoked on the date listed, under section 408(l)(5) of FFDCA, residues of the pesticide not in excess of the amounts specified in the tolerances remaining in or on the commodities after that date will not be unlawful, provided the residues are present as a result of an application or use of a pesticide at a time and in a manner that was lawful under FIFRA, the tolerances were in place at the time of the application, and the residues do not exceed the levels that were authorized by the tolerances. EPA will take action to revoke these tolerances earlier if any experience with, scientific data on, or other relevant information on these pesticides indicate that the residues are not safe

Tolerances for the use of the following pesticide chemicals on specific commodities are being extended:

1. Bifenazate. EPA has authorized under FIFRA section 18 the use of bifenazate on Timothy grass for control of Banks grass mite in Nevada. This regulation extends time-limited tolerances for combined residues of the miticide bifenazate (1-methylethyl 2-(4-methoxy[1,1'-biphenyl]-3-yl)hydrazinecarboxylate) and its metabolite, diazinecarboxylic acid (2-(4-methoxy-[1,1'-biphenyl]-3-yl, 1-methylethyl ester) in or on Timothy forage at 50 parts per million (ppm) and Timothy hay at 150 ppm for an additional 3-year period. These tolerances will expire and are revoked on December 31, 2010. The document establishing time-limited tolerances originally published in the Federal Register of January 28, 2005 (70 FR 4032) (FRL-7696-2).

2. Chlorothalonil. EPA has authorized under FIFRA section 18 the use of chlorothalonil on ginseng for control of botrytis leaf, stem, and flower blight in Michigan and Wisconsin. This regulation extends a time-limited tolerance for combined residues of the fungicide chlorothalonil and its metabolite 4-hydroxy-2,5,6-trichloroisophthalonitrile in or on ginseng, root at 0.1 ppm for an additional 1-year period. This tolerance will expire and is revoked on December 31, 2008. A time-limited tolerance was originally published in the Federal Register of December 12, 1997 (62 FR 65369) (FRL-5759-5).

3. Hexythiazox. EPA has authorized under FIFRA section 18 the use of hexythiazox on field corn for control of spider mites in Texas. This regulation extends time-limited tolerances for combined residues of the miticide hexythiazox (trans-5-(4-chlorophenyl)-N-cyclohexyl-4-methyl-2-oxothiazolidine-3-carboxamide) and its metabolites containing the (4-chlorophenyl)-4-methyl-2-oxo-3-thiazolidine moiety in or on corn, field, grain at 0.05 ppm; and corn, field, forage and corn, field, stover at 2.0 ppm for an additional 3-year period. These tolerances will expire and are revoked on December 31, 2010. The document establishing time-limited tolerances originally published in the Federal Register of November 10, 2004 (69 FR 65073) (FRL-7684-2).

4. Mesotrione. EPA has authorized under FIFRA section 18 the use of mesotrione on cranberry for control of broadleaf weeds in Oregon, Washington, and Wisconsin. This regulation extends a time-limited tolerance for residues of the herbicide mesotrione (2-[4-(methylsulfonyl)-2-nitrobenzoyl]-1,3-cyclohexanedione) in or on cranberry at 0.01 ppm for an additional 3-year period. This tolerance will expire and is revoked on December 31, 2010. A time-limited tolerance was originally published in the Federal Register of September 30, 2004 (69 FR 58304) (FRL-7678-8).

5. Myclobutanil. EPA has authorized under FIFRA section 18 the use of myclobutanil on artichokes for control of powdery mildew in California. This regulation extends a time-limited tolerance for combined residues of the fungicide myclobutanil (alpha-butyl-alpha-(4-chlorophenyl)-1H-1,2,4-triazole-1-propanenitrile) and its alcohol metabolite (alpha-(3-hydroxybutyl)-alpha-(4-chlorophenyl)-1H-1,2,4-triazole-1-propanenitrile (free and bound)), in or on artichoke, globe at 1.0 ppm for an additional 2-year period. This tolerance will expire and is revoked on December 31, 2009. A time-limited tolerance was originally published in the Federal Register of September 16, 1998 (63 FR 49472) (FRL-6025-1).

6. Myclobutanil. EPA has authorized under FIFRA section 18 the use of myclobutanil on peppers for control of powdery mildew in California and New Mexico. This regulation extends a time-limited tolerance for combined residues of the fungicide myclobutanil (alpha-butyl-alpha-(4-chlorophenyl)-1H-1,2,4-triazole-1-propanenitrile) and its alcohol metabolite (alpha-(3-hydroxybutyl)-alpha-(4-chlorophenyl)-1H-1,2,4-triazole-1-propanenitrile (free and bound)), in or on peppers at 1.0 ppm for an additional 1.5 -year period. This tolerance will expire and is revoked on December 31, 2009. A time-limited tolerance was originally published in the Federal Register of September 16, 1998 (63 FR 49472) (FRL-6025-1).

7. Sulfentrazone. EPA has authorized under FIFRA section 18 the use of sulfentrazone on flax for control of Kochia in North Dakota. This regulation extends a time-limited tolerance for combined residues of the herbicide sulfentrazone, N-[2,4-dichloro-5-[4-(difluoromethyl)-4,5-dihydro-3-methyl-5-oxo-1H-1,2,4-triazol-1-yl]phenyl] methanesulfonamide and its metabolites 3-hydroxymethyl sulfentrazone (HMS) and 3-desmethyl sulfentrazone (DMS) in or on flax, seed at 0.2 ppm for an additional 3-year period. This tolerance will expire and is revoked on December 31, 2010. A time-limited tolerance was originally published in the Federal Register of August 21, 2002 (67 FR 54111) (FRL-7191-5).

8. Sulfentrazone. EPA has authorized under FIFRA section 18 the use of sulfentrazone on strawberry for control of various broadleaf weeds in Iowa, Michigan, Ohio, Oregon, Washington, and Wisconsin. This regulation extends a time-limited tolerance for combined residues of the herbicide sulfentrazone, N-[2,4-dichloro-5-[4-(difluoromethyl)-4,5-dihydro-3-methyl-5-oxo-1H-1,2,4-triazol-1-yl]phenyl] methanesulfonamide and its metabolites 3-hydroxymethyl sulfentrazone (HMS) and 3-desmethyl sulfentrazone (DMS) in or on strawberry at 0.60 ppm for an additional 3-year period. This tolerance will expire and is revoked on December 31, 2010. A time-limited tolerance was originally published in the Federal Register of August 1, 2001 (66 FR 39651) (FRL-6793-1).

9. Tebuconazole. EPA has authorized under FIFRA section 18 the use of tebuconazole (alpha-[2-(4-chlorophenyl)-ethyl]-alpha-(1,1-dimethylethyl)-1H-1,2,4-triazole-1-ethanol) on garlic for control of garlic rust in California. This regulation extends a time-limited tolerance for residues of the fungicide tebuconazole (alpha-[2-(4-chlorophenyl)-ethyl]-alpha-(1,1-dimethylethyl)-1H-1,2,4-triazole-1-ethanol) in or on garlic at 0.1 ppm for an additional 1-year period. This tolerance will expire and is revoked on December 31, 2008. A time-limited tolerance was originally published in the Federal Register of May 26, 1999 (64 FR 28377) (FRL-6079-1).

10. Thiabendazole. EPA has authorized under FIFRA section 18 the use of thiabendazole on lentils for control of Ascochyta blight in Idaho, Montana, North Dakota, Oregon, and Washington. This regulation extends a time-limited tolerance for residues of the fungicide thiabendazole in or on lentil, seed at 0.1 ppm for an additional 1-year period. This tolerance will expire and is revoked on December 31, 2008. A time-limited tolerance was originally published in the Federal Register of February 25, 1998 (63 FR 9435) (FRL-5767-6).

11. Thiophanate-methyl. EPA has authorized under FIFRA section 18 the use of thiophanate-methyl on cotton for control of fusarium hardlock in Florida. This regulation extends time-limited tolerances for combined residues of the fungicide thiophanate-methyl and its metabolite methyl 2-benzimidazoyl carbamate (MBC) in or on cotton, undelinted seed at 0.05 ppm and cotton, gin byproducts at 5.0 ppm for an additional 1 -year period. These tolerances will expire and are revoked on December 31, 2008. The document establishing time-limited tolerances originally published in the Federal Register of March 23, 2005 (70 FR 14551) (FRL-7699-3).

12. Thiophanate-methyl. EPA has authorized under FIFRA section 18 the use of thiophanate-methyl on mushrooms for control of green mold in California, Colorado, Delaware, Maryland, Oregon, Pennsylvania, and Washington. This regulation extends a time-limited tolerance for combined residues of the fungicide thiophanate-methyl and its metabolite methyl 2-benzimidazoyl carbamate (MBC) in or on mushroom at 0.01 ppm for an additional 1-year period. This tolerance will expire and is revoked on December 31, 2008. A time-limited tolerance was originally published in the Federal Register of February 5, 2003 (68 FR 5847) (FRL-7285-9).

13. Zeta-cypermethrin. EPA has authorized under FIFRA section 18 the use of zeta-cypermethrin on flax for control of grasshoppers in North Dakota. This regulation extends time-limited tolerances for combined residues of the insecticide zeta-cypermethrin (S-cyano(3-phenoxyphenyl) methyl (±))(cis-trans3-(2,2-dichloroethenyl)-2,2 dimethylcyclopropanecarboxylate and its inactive R-isomers in or on flax, meal and flax, seed, each at 0.2 ppm for an additional 3-year period. These tolerances will expire and are revoked on December 31, 2010. The document establishing time-limited tolerances originally published in the Federal Register of September 4, 2002 (67 FR 56490) (FRL-7197-7).

III. Statutory and Executive Order Reviews

This final rule establishes tolerances under section 408(d) of FFDCA in response to petitions submitted to the Agency. The Office of Management and Budget (OMB) has exempted these types of actions from review under Executive Order 12866, entitled Regulatory Planning and Review (58 FR 51735, October 4, 1993). Because this rule has been exempted from review under Executive Order 12866, this rule is not subject to Executive Order 13211, Actions Concerning Regulations That Significantly Affect Energy Supply, Distribution, or Use (66 FR 28355, May 22, 2001) or Executive Order 13045, entitled Protection of Children from Environmental Health Risks and Safety Risks (62 FR 19885, April 23, 1997). This final rule does not contain any information collections subject to OMB approval under the Paperwork Reduction Act (PRA), 44 U.S.C. 3501 et seq., nor does it require any special considerations under Executive Order 12898, entitled Federal Actions to Address Environmental Justice in Minority Populations and Low-Income Populations (59 FR 7629, February 16, 1994).

Since tolerances and exemptions that are established on the basis of a petition under section 408(d) of FFDCA, such as the tolerances in this final rule, do not require the issuance of a proposed rule, the requirements of the Regulatory Flexibility Act (RFA) (5 U.S.C. 601 et seq.) do not apply.

This final rule directly regulates growers, food processors, food handlers, and food retailers, not States or tribes, nor does this action alter the relationships or distribution of power and responsibilities established by Congress in the preemption provisions of section 408(n)(4) of FFDCA. As such, the Agency has determined that this action will not have a substantial direct effect on States or tribal governments, on the relationship between the national government and the States or tribal governments, or on the distribution of power and responsibilities among the various levels of government or between the Federal Government and Indian tribes. Thus, the Agency has determined that Executive Order 13132, entitled Federalism (64 FR 43255, August 10, 1999) and Executive Order 13175, entitled Consultation and Coordination with Indian Tribal Governments (65 FR 67249, November 6, 2000) do not apply to this rule. In addition, this rule does not impose any enforceable duty or contain any unfunded mandate as described under Title II of the Unfunded Mandates Reform Act of 1995 (UMRA) (Public Law 104-4).

This action does not involve any technical standards that would require Agency consideration of voluntary consensus standards pursuant to section 12(d) of the National Technology Transfer and Advancement Act of 1995 (NTTAA), Public Law 104-113, section 12(d) (15 U.S.C. 272 note).

IV. Congressional Review Act

The Congressional Review Act, 5 U.S.C. 801 et seq., generally provides that before a rule may take effect, the agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: December 6, 2007.
Donald R. Stubbs,
Acting Director, Registration Division, Office of Pesticide Programs.

Therefore, 40 CFR chapter I is amended as follows:

PART 180—[AMENDED]

1. The authority citation for part 180 continues to read as follows:

Authority: 21 U.S.C. 321(q), 346a and 371.

§ 180.242 [Amended]

2. In § 180.242, in the table to paragraph (b), amend the entry for lentil, seed by removing the expiration date “12/31/07” and adding in its place “12/31/08.”

§ 180.275 [Amended]

3. In § 180.275, in the table to paragraph (b), amend the entry for ginseng by removing the expiration date “12/31/07” and adding in its place “12/31/08.”

§ 180.371 [Amended]

4. In § 180.371, in the table to paragraph (b), amend the entries for cotton, undelinted seed; cotton, gin products; and mushroom by removing the expiration date “12/31/07” and adding in its place “12/31/08.”

§ 180.418 [Amended]

5. In § 180.418, in the table to paragraph (b), amend the entries for flax, meal and flax, seed by removing the expiration date “6/30/08” and adding in its place “12/31/10.”

§ 180.443 [Amended]

6. In § 180.443, in the table to paragraph (b), amend the entry for artichoke, globe by removing the expiration date “12/31/07” and adding in its place “12/31/09”; and amend the entry for pepper by removing the expiration date “6/30/08” and adding in its place “12/31/09.”

§ 180.448 [Amended]

7. In § 180.448, in the table to paragraph (b), amend the entries for corn, field, grain; corn, field, forage; and corn, field, stover by removing the expiration date “12/31/07” and adding in its place “12/31/10.”

§ 180.474 [Amended]

8. In § 180.474, in the table to paragraph (b), amend the entry for garlic by removing the expiration date “12/31/07” and adding in its place “12/31/08.”

§ 180.498 [Amended]

9. In § 180.498, in the table to paragraph (b), amend the entries for flax, seed and strawberry by removing the expiration date “12/31/07” and adding in its place “12/31/10.”

§ 180.571 [Amended]

10. In § 180.571, in the table to paragraph (b), amend the entry for cranberry by removing the expiration date “12/31/07” and adding in its place “12/31/10.”

§ 180.572 [Amended]

11. In § 180.572, in the table to paragraph (b), amend the entries for Timothy, forage and Timothy, hay by removing the expiration date “12/31/07” and adding in its place “12/31/10.”

[FR Doc. E7-24345 Filed 12-18-07; 8:45 am]

BILLING CODE 6560-50-S